DEPARTMENT OF COMMERCE

National Oceanic and Atmospheric Administration

RIN 0648-XC100

Marine Mammals; File No. 17115

AGENCY: National Marine Fisheries Service (NMFS), National Oceanic and Atmospheric Administration (NOAA), Commerce.

ACTION: Notice; receipt of application for permit amendment.

SUMMARY: Notice is hereby given that James Lloyd-Smith, Department of Ecology and Evolutionary Biology, University of California, Los Angeles, 610 Charles E. Young Dr. South, Box 723905, Los Angeles, CA 90095-7239, has applied for an amendment to Scientific Research Permit No. 17115-02.

DATES: Written, telefaxed, or email comments must be received on or before August 15, 2014.

ADDRESSES: The application and related documents are available for review by selecting “Records Open for Public Comment” from the Features box on the Applications and Permits for Protected Species home page, https://apps.nmfs.noaa.gov, and then selecting File No. 17115 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include File No. 17115 in the subject line of the email comment.

Those individuals requesting a public hearing should submit a written request to the Chief, Permits and Conservation Division at the address listed above. The request should set forth the specific reasons why a hearing on this application would be appropriate.

FOR FURTHER INFORMATION CONTACT: Amy Sloan, (301)427-8401.

SUPPLEMENTARY INFORMATION: The subject amendment to Permit No. 17115-02 is requested under the authority of the Marine Mammal Protection Act of 1972, as amended (16 U.S.C. 1361 et seq.), and the regulations governing the taking and importing of marine mammals (50 CFR part 216).

Permit No. 17115-00 was issued on September 24, 2012 (77 FR 63296). A major amendment, Permit No. 17115-01, was issued on August 28, 2013 (76 FR 56219). The permit was amended via a minor amendment (Permit No. 17115-02) on March 14, 2014, to clarify anesthetic procedures. Permit No. 17115-02 authorizes the permit holder to study the prevalence of leptospirosis in wild California sea lions (Zalophus californianus) in California. California sea lions may be taken annually (80 animals at Año Nuevo Island, 160 animals at San Nicolas Island, and 80 animals in Monterey Bay) by capture (including restraint and anesthesia); marking and measuring; and sampling (blood, urine, vibrissae). A limited number of non-target sea lions may be captured and released without sampling. Incidental disturbance is authorized annually as follows: 5,000 sea lions, 3,000 northern elephant seals (Mirounga angustirostris), and 60 harbor seals (Phoca vitulina) at Año Nuevo; 6,000 sea lions, 2,000 northern elephant seals, and 100 harbor seals on San Nicolas Island; and 3,000 sea lions, 100 elephant seals, and 50 harbor seals in Monterey Bay. The permit holder is authorized to disentangle and mark/sample a limited number of California sea lions encountered during the research activities. Eight unintentional mortalities of California sea lions are authorized over the duration of the permit. The permit expires September 30, 2017.

The permit holder requests the permit be amended to: (1) Expand the current sampling season (March to May and August to November) to any time of year excluding peak pupping season on rookeries; (2) change the project location from Año Nuevo Island and Monterey Bay as separate locations to a combined coastal California area including offshore islands; (3) increase the number of sea lions sampled annually in coastal California from 120 to 160 annually (this includes Año Nuevo Island, Monterey Bay, and other coastal areas combined); (4) add captures of pups approximately 8-9 months old (20 annually at all locations); (5) add water captures for new locations and use of injectable drugs; (6) increase incidental disturbance of California sea lions on San Nicolas Island from 6,000 to 10,000 annually; (7) increase incidental disturbance from 8,000 California sea lions combined at Año Nuevo and Monterey Bay to 10,000 total in coastal California annually; (8) add incidental disturbance of eastern Steller sea lions (Eumetopias jubatus) (10 annually at all locations) and incidental disturbance of northern fur seals (Callorhinus ursinus) (150 annually in coastal California); and (9) take additional samples in the event of an unusual mortality event or disease outbreak.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: July 10, 2014.
Julia Harrison,
Acting Chief, Permits and Conservation Division, Office of Protected Resources, National Marine Fisheries Service.

[FR Doc. 2014-16666 Filed 7-15-14; 8:45 am]

BILLING CODE 3510-22-P